DEPARTMENT OF AGRICULTURE

Forest Service

Willamette Provincial Advisory Committee (PAC)

AGENCY: Forest Service, USDA.

ACTION: Action of meeting.

SUMMARY: The Willamette Province Advisory Committee (PAC) will meet on Thursday, October 19, 2000. The meeting is scheduled to begin at 9 a.m., and will conclude at approximately 3 p.m. The meeting will be held at the Salem Office of the Bureau of Land Management; 1717 Fabry Road SE; Salem, Oregon; (503) 375-5646. The tentative agenda includes:

(1) Presentation of Integrated Natural Fuels Assessment, (2) Overview of President's Wildfire Action Plan, (3) County receipts legislation, (4) REO update, (5) Update on PAC rechartering and membership, (6) Roundtable information sharing.

The Public Forum is tentatively scheduled to begin at 10:30 a.m. Time allotted for individual presentations will be limited to 3-4 minutes. Written comments are encouraged, particularly if the material cannot be presented within the time limits for the Public Forum. Written comments may be submitted prior to the October 19 meeting by sending them to Designated Federal Official Neal Forrester at the address given below.

FOR FURTHER INFORMATION CONTACT: For more information regarding this meeting, contact Designated Federal Official Neal Forrester; Williamette National Forest; 211 East Seventh Avenue; Eugene, Oregon 97401; (541) 465-6924.

Dated: September 25, 2000.
Darrel L. Kenops,
Forest Supervisor.

[FR Doc. 00-25141 Filed 9-29-00; 8:45 am]

BILLING CODE 3410-11-M